DEPARTMENT OF COMMERCE

National Oceanic and Atmospheric Administration

50 CFR Part 622

[I.D. 012502A]

Fisheries of the Caribbean, Gulf of Mexico, and South Atlantic; Snapper-Grouper Fishery off the Southern Atlantic States; Amendment 14

AGENCY: National Marine Fisheries Service (NMFS), National Oceanic and Atmospheric Administration (NOAA), Commerce.

ACTION: Notice of intent to prepare a draft supplemental environmental impact statement (DSEIS); request for comments.

SUMMARY: The South Atlantic Fishery Management Council (Council) intends to prepare a DSEIS to assess the impacts on the natural and human environment of the management measure proposed in its draft Amendment 14 to the Fishery Management Plan for the Snapper-Grouper Fishery of the South Atlantic Region (FMP).

DATES: Written comments on the scope of issues to be addressed in the preliminary DSEIS will be accepted through March 4, 2002.

ADDRESSES: Comments and requests for copies of the DSEIS should be sent to Robert K. Mahood, Executive Director, South Atlantic Fishery Management Council, One Southpark Circle, Suite 306, Charleston, SC 29407-4699, FAX: 843-769-4520; email: robert.mahood@noaa.gov.

FOR FURTHER INFORMATION CONTACT: Kim Iverson, Public Information Office; 843-571-4366 or kim.iverson@noaa.gov.

SUPPLEMENTARY INFORMATION: The snapper grouper fishery off the South Atlantic States in the exclusive economic zone is managed under the FMP. Following Council preparation, the FMP was approved and implemented by NMFS under the authority of the Magnuson-Stevens Fishery Conservation and Management Act (Magnuson-Stevens Act) in March of 1983. Currently, the Council is preparing draft FMP Amendment 14 and a DSEIS as an integrated part of the Amendment. The DSEIS will discuss the proposed Amendment 14 management measures in conjunction with reasonable alternatives. Each alternative will be assessed in relation to the environmental consequences with a no-action alternative considered as one of the options.

The Council is considering the use of Marine Protected Areas (MPAs) as a management tool to protect overfished stocks and maintain the sustained existence of healthy stocks in the snapper grouper complex. MPAs serve as geographical areas with various degrees of protection from harvest including prohibition of specific gear types, seasonal spawning area closures, complete closure from fishing, and combinations of the aforementioned. Anticipated benefits from the MPAs include the protection of critical life stages, physical habitats, age structure, genetic diversity of the stock, and biodiversity. In addition to ensuring the long-term ecological viability of the fish stock and introducing a provision of insurance against uncertainty, MPAs have the potential to provide opportunities for education and research.

In Amendment 14, the Council is considering using MPAs as an additional management tool to supplement traditional management measures and promote its ultimate goal of conservation and management of fish stocks in the South Atlantic exclusive economic zone. The high species diversity and complex life history of fish within the snapper grouper management group supports a greater ecosystem approach to resource management of the stock. The Council intends that Amendment 14 center on establishing MPAs in critical habitat for overfished deepwater species including speckled hind, warsaw grouper, misty grouper, yellowedge grouper, snowy grouper, golden tilefish, sand tilefish, and blueline tilefish.

A scoping meeting to determine the scope of significant issues to be addressed in the DSEIS and the associated Amendment 14 will be conducted at the Council's March 4-8, 2002, meeting in Savannah, GA.

Following consideration of public comments, the Council intends to finalize and approve draft Amendment 14 to the FMP and the DSEIS for two rounds of public hearings, one in 2002 and one early in 2003. These documents are expected to be released for public comment and filed with the Environmental Protection Agency following the June 2003 Council meeting.

Authority: 6 U.S.C. 1801 et seq.

Dated: January 25, 2002.
Jonathan Kurlund,
Acting Director, Office of Sustainable Fisheries, National Marine Fisheries Service.

[FR Doc. 02-2405 Filed 1-30-02; 8:45 am]

BILLING CODE 3510-22-S